DEPARTMENT OF THE INTERIOR

Fish and Wildlife Service

[FWS-R2-ES-2008-N0063; 20124-1112-0000-F2]

Salt River Project; Horseshoe-Bartlett Habitat Conservation Plan, Maricopa and Yavapai Counties, AZ

AGENCY: Fish and Wildlife Service, Interior.

ACTION: Notice of availability: final environmental impact statement, final habitat conservation plan, and proposed implementing agreement for incidental take.

SUMMARY: The Salt River Project (SRP) has submitted an application for an incidental take permit (ITP) for species currently listed under the Endangered Species Act of 1973, as amended (ESA) and species that may become listed in the future (collectively, “covered species”). The proposed take would occur in Maricopa and Yavapai Counties, Arizona, as a result of impacts on covered species and occupied habitat from modified operation of Horseshoe Dam and Reservoir (Horseshoe) and Bartlett Dam and Reservoir (Bartlett). The U.S. Fish and Wildlife Service (Service) has issued a final Environmental Impact Statement (EIS) to evaluate the impacts of and alternatives for the possible issuance of an ITP. SRP has completed the final Horseshoe-Bartlett Habitat Conservation Plan (HCP), along with a proposed Implementing Agreement as part of the application package submitted to the Service (collectively, the “Application”) as required by the ESA, for consideration of issuance of an ITP. The Application provides measures to minimize and mitigate the effects of the proposed taking of covered species and effects to the habitats upon which they depend.

The final EIS includes all comments received on the draft EIS, and responses to those comments. No decision will be made on the proposed action until at least 30 days after publication of this notice of availability of the final EIS in the Federal Register. After the 30-day waiting period, the U.S. Fish and Wildlife Service will complete a Record of Decision (ROD) that states the action that will be implemented and discusses all factors leading to the decision.

ADDRESSES: Persons wishing to review the final EIS and Application documents may obtain a copy by writing to Mr. Steve Spangle, Field Supervisor, U.S. Fish and Wildlife Service, 2321 West Royal Palm Road, Suite 103, Phoenix, AZ 85021.

FOR FURTHER INFORMATION CONTACT: Final EIS: Ms. Debra Bills, Arizona State Office, U.S. Fish and Wildlife Service, 2321 West Royal Palm Road, Suite 103, Phoenix, AZ 85021; 602/242-0210. Application: Mr. Charles Paradzick, Senior Ecologist, Salt River Project, P.O. Box 52025, PAB352, Phoenix, AZ 85072-2025; 602/236-2724, or Mr. Craig Sommers, President, ERO Resources Corporation, 1842 Clarkson Street, Denver, CO 80218; 303/830-1188.

Read-only downloadable copies of the final EIS and Application documents are available on the Internet at http://www.fws.gov/southwest/es/arizona. A printed or CD copy of the documents is available upon request from Mr. Charles Paradzick, Salt River Project, P.O. Box 52025, Phoenix, AZ 85072-2025; (602) 236-2724; Charles.Paradzick@srpnet.com. Copies of the final EIS and Application are also available for public inspection and review at the locations listed below under Supplementary Information.

SUPPLEMENTARY INFORMATION: SRP has submitted an application for an ITP for the following covered species:

(1) Southwestern willow flycatcher (Empidonax traillii extimus) (flycatcher);

(2) Bald eagle (Haliaeetus leucocephalus);

(3) Yellow-billed cuckoo (Coccyzus americanus)(cuckoo);

(4) Razorback sucker (Xyrauchen texanus);

(5) Colorado pikeminnow (Ptychocheilus lucius);

(6) Gila topminnow (Poeciliopsis o. occidentalis);

(7) Spikedace (Meda fulgida);

(8) Loach minnow (Tiaroga cobitis);

(9) Roundtail chub (Gila robusta);

(10) Longfin dace (Agosia chrysogaster);

(11) Sonora sucker (Catostomus insignis);

(12) Desert sucker (Catostomus clarki);

(13) Speckled dace (Rhinichthys osculus);

(14) Lowland leopard frog (Rana yavapaiensis);

(15) Northern Mexican gartersnake (Thamnophis eques megalops);

(16) Narrow-headed gartersnake (Thamnophis rufipunctatus).

Pursuant to the National Environmental Policy Act (NEPA), this notice advises the public that the Service has gathered the information necessary to determine impacts and formulate alternatives for the EIS, related to the potential issuance of an ITP to SRP and that SRP has developed and is prepared to implement the HCP, which provides measures to minimize and mitigate the effects of the incidental take of federally listed species to the maximum extent practicable, pursuant to section 10(a)(1)(B) of the ESA.

Section 9 of the ESA prohibits the “taking” of threatened and endangered species. However, the Service, under limited circumstances, may issue permits to take threatened or endangered wildlife species when such taking is incidental to, and not the purpose of, otherwise lawful activities. Regulations governing permits for endangered species are at 50 CFR Parts 13 and 17.

Copies of the final EIS and Application are available for public inspection and review at the following locations (by appointment only at government offices):

• Department of the Interior, Natural Resources Library, 1849 C St., NW., Washington, DC 20240.

• U.S. Fish and Wildlife Service, 110 S. Church, Suite 3450, Tucson, AZ 85701.

• U.S. Fish and Wildlife Service, 2321 West Royal Palm Road, Suite 103, Phoenix, AZ 85021.

• Salt River Project, 1521 Project Drive, Tempe, AZ 85281.

• Flagstaff Public Library, 300 W. Aspen Ave., Flagstaff, AZ 86001.

• Government Document Service, Arizona State University, Tempe, AZ 85287.

• Phoenix Public Library (Burton Barr Central), 1221 N. Central Ave., Phoenix, AZ 85004.

• Cottonwood Public Library, 100 S. 6th St., Cottonwood, AZ 86326.

• Camp Verde Public Library, 130 Black Bridge Loop Rd., Camp Verde, AZ 86322.

• Fountain Hills Library, 12901 N. La Montana Dr., Fountain Hills, AZ 85268.

Background

Horseshoe and Bartlett are operated by SRP in conjunction with four reservoirs on the Salt River and one reservoir on East Clear Creek as integral features of the Salt River Federal Reclamation Project, authorized by the Reclamation Act of 1902, and under a 1917 contract with the United States (43 U.S.C. 499). Since completion in the 1930s and 1940s, Horseshoe and Bartlett have provided water for irrigation, municipal, and other uses. Currently, SRP reservoirs supply much of the water for the population of more than 2.6 million people in the cities of Phoenix, Mesa, Chandler, Tempe, Glendale, Gilbert, Scottsdale, Tolleson, and Avondale. Water deliveries are also made under specific water rights in Horseshoe and Bartlett held by the City of Phoenix, the Salt River Pima-Maricopa Indian Community, and the Fort McDowell Yavapai Nation. In addition, water is provided to irrigate agricultural lands within SRP and for satisfaction of the independent water rights of Buckeye Irrigation Company, Gila River Indian Community, Roosevelt Irrigation District, Roosevelt Water Conservation District, and others. Horseshoe, Bartlett, and the other SRP reservoirs also provide a variety of recreational uses and environmental benefits in central Arizona.

Due to dry conditions in central Arizona for the past 12 years, water levels in Horseshoe and Bartlett have been below normal. As a result, riparian trees and shrubs have grown in the Horseshoe storage space and have been colonized by a population of flycatchers, which are listed as endangered under the ESA. Thus, periodic refilling of the reservoir may adversely impact the habitat and nesting of the flycatcher as well as the cuckoo, which uses similar habitat. Also, nonnative fish produced in Horseshoe and Bartlett can adversely impact covered fish, frog, and gartersnake species through predation, competition, and alteration of habitat in the Verde River and portions of its tributaries.

Proposed Action

The proposed action is the issuance of an ITP for the covered species for SRP's modified operation of Horseshoe and Bartlett, under section 10(a)(1)(B) of the ESA. The requested duration of the Permit is 50 years. The areas covered by the Permit would include Horseshoe up to an elevation of 2,026 feet (ft), Bartlett up to an elevation of 1,748 ft, the Salt River from Granite Reef Dam to the Verde River, most of the Verde River upstream from the Salt River, and portions of the Verde River tributaries. The action area for the EIS and HCP also includes mitigation lands acquired as part of the HCP.

To meet the requirements of a section 10(a)(1)(B) permit, SRP has developed and will implement the HCP, which provides modified operating objectives (termed the “Optimum Operation Alternative”) to support stands of tall riparian vegetation at the upper end of Horseshoe to minimize impacts to covered bird species, and to manage Horseshoe water levels to minimize impacts to covered native fish, frog, and gartersnake species. The HCP also includes other measures to minimize and mitigate incidental take of the covered species to the maximum extent practicable, and which ensure that the incidental take will not appreciably reduce the likelihood of the survival and recovery of these species in the wild.

Alternatives

Two other alternatives being considered by the Service include the following:

1. No Permit—No issuance of an ITP by the Service. This alternative would require SRP to do everything within its control to avoid any take of federally listed species associated with its continued operation of Horseshoe and Bartlett.

2. Modified Historical Operation—Approval by the Service of an application for an ITP authorizing incidental take of threatened and endangered species associated with the operation of Horseshoe and Bartlett by SRP using historical operating objectives for the reservoirs, along with additional measures to minimize and mitigate the potential take of covered species.

Christopher T. Jones,
Acting Regional Director, Region 2, Albuquerque, New Mexico.

[FR Doc. E8-9405 Filed 4-29-08; 8:45 am]

BILLING CODE 4310-55-P